DEPARTMENT OF AGRICULTURE

Forest Service

Maudlow-Toston Post-Fire Salvage, Sale, Townsend Ranger District, Helena National Forest, Broadwater County, Montana

AGENCY: Forest Service, USDA.

ACTION: Notice, intent to prepare environmental impact statement.

SUMMARY: The Forest Service will prepare an Environmental Impact Statement on a proposal to harvest merchantable fire-damaged trees from the Maudlow—Toston wildfire area. The proposed action includes salvage timber harvest in roaded areas and stewardship project timber harvest activities in inventoried roadless areas. No new road construction or reconstruction would be conducted in inventoried roadless areas. In areas outside inventoried roadless areas, existing system roads and a few temporary roads would be used. Only dead or dying trees will be removed. The proposed action will also incorporate interim road management to provide for big game security, silvicultural practices that can hasten post-fire recovery for wildlife and recreation and reduce future fuel loading, and other management practices to minimize accelerated erosion.

DATES: Comments concerning the proposal and scope of the analysis should be received in writing by January 15th, 2001.

ADDRESSES: All questions and/or comments should be addressed to: USDA Forest Service, Townsend Ranger District, 415 S. Front Street, Box 29, Townsend, MT 59644.

FOR FURTHER INFORMATION CONTACT: David McMorran, Team Leader or Rachel Feigley, Assistant Team Leader, at the address above or (406) 266-3425. An Open House is scheduled for December 14, 2000, 4pm to 8pm, at the library community room in Townsend, Montana.

Additional Information: The analysis will include a no action alternative which will address the effects of not harvesting in the burned area. Other alternatives will consider a range of options, including varying the locations, timing and methods of timber removal. The analysis will consider the effects of the proposed action and alternatives within the entire affected watersheds (Blacktail and Sulphur Bar drainages), but actions will be limited to the burned areas- no green tree harvest is proposed.

Anticipated issues and concerns include, but are not limited to: Longterm watershed stability and recovery; fuel loading/fuel reduction in the future; inventoried roadless character and values; longterm management goals; opportunities to integrate salvage operations with restoration activities; big game security and retention of remaining hiding cover; snag management for wildlife; scenery and recreation management, the potential for spreading noxious weeds, and opportunities to benefit local economies.

The public will be notified, via mail and news release, of the implementation of this project and of the availability of the Draft and Final Analysis. The Forest Service is seeking information and comments from Federal, State and local agencies as well as individuals and organizations that may be interested in the proposal. The Forest Service invites written comments and suggestions related to the proposal. Information received will be used in preparation of the Draft Environmental Impact Statement. The Draft Environmental Impact Statement and Record of Decision in April 2001. The official close of the comment period for the Draft Environmental Impact Statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 533 (1978). Also, environmental objections that could be raised at the draft environmental impact statement stage, but that are not raised until after completion of the final environmental impact statement, may be waived or dismissed by the courts. City of Angoon v. Hodel, 803 F.2d 1016, 1022 (9th Cir. 1986) and Wisconsin Heritages, Inc. v. Harris, 490 F. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions on the National Environmental Policy Act at 40 CFR 1503.3 in addressing these points.

The responsible official is Thomas J. Clifford, Forest Supervisor, Helena National Forest, 2880 Skyway Drive, Helena, MT 59601.

Dated: December 1, 2000
Thomas J. Clifford,
Forest Supervisor.

[FR Doc. 00-31369 Filed 12-8-00; 8:45 am]

BILLING CODE 3410-11-M